DEPARTMENT OF ENERGY

Federal Energy Regulatory Commission

Notice of Intent To Surrender Exemption

August 17, 2000.

Take notice that the following hydroelectric application has been filed with the Commission and is available for public inspection:

a. Application Type: Surrender of Exemption.

b. Project No.: P-3615-002.

c. Date Filed: June 30, 2000.

d. Applicant: Drew River Mill, Inc.

e. Name of Project: Branch River Mill Project.

f. Location: The Branch River Mill Project is located on the Branch River in Carroll County, New Hampshire.

g. Filed Pursuant to: Federal Power Act, 16 U.S.C. 791(a)-825(r).

h. Applicant Contact: David Klein, ­C/O John E. Bowker, P.E., 102 Old Governor's Road, Brookfield, NH 03872, (603) 522-3704.

i. FERC Contact: Stefanie Damiani at stefanie.damiani@ferc.fed.us, or telephone (202) 219-2684.

j. Deadline for filing comments, motions, or protests: September 18, 2000.

All documents (original and eight copies) should be filed with: David P. Boergers, Secretary, Federal Energy Regulatory Commission, 888 First Street, N.E., Washington, D.C. 20426.

Please include the project number (P-3615-002) on any comments or motions filed.

k. Description of Project: The project consists of: (1) A 10-foot-high, 50-foot-long, concrete cap dam; (2) a reservoir with a surface area of 3 acres; (3) a powerhouse containing a single generating unit with a net rating of 30 kW; and (4) appurtenant facilities. The exemptee requesters surrender of the exemption, stating that the Branch River Mill Dam stopped supplying electric power to the Public Service of New Hampshire as of October 20, 1999.

l. Locations of the application: A copy of the notices and letters are available for inspection and reproduction at the Commission's Public Reference Room, located at 888 First Street, NE, Room 2A, Washington, DC 20426, or by calling (202) 208-1371. The application may be viewed on the web at www.ferc.fed.us. Call (202) 208-2222 for assistance. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, N.E., Washington, D.C. 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-21441 Filed 8-22-00; 8:45 am]

BILLING CODE 6717-01-M